DEPARTMENT OF COMMERCE

National Oceanic and Atmospheric Administration

[Docket No. 00-1220361; I.D. 022801A]

0648-ZB03

Steller Sea Lion Research Initiative (SSLRI)

AGENCY: National Marine Fisheries Service (NMFS), National Oceanic and Atmospheric Administration (NOAA), Commerce.

ACTION: Notice of availability of funds.

SUMMARY: NMFS announces that funding will be made available to assist eligible individuals and entities in carrying out research into the causes for the decline of Steller sea lions in waters off Alaska. NMFS issues this notice describing the conditions under which applications will be accepted and selected for funding. Areas of emphasis for the SSLRI Program were derived from specific legislative directives and supported through recommendations received from non-Federal scientific and technical experts and from NMFS research and operations officials.

DATES: Applications for funding under this program are due 5 p.m. Alaskan standard time on April 23, 2001. Applications received after that time will not be considered for funding. No facsimile or electronic applications will be accepted.

ADDRESSES: Send applications to Peter Jones, SSLRI Program, Program Office, NMFS Alaska Region, PO Box 21668, Juneau, AK 99802.

FOR FURTHER INFORMATION CONTACT: Peter Jones (907) 586-7280 or via email at: peter.d.jones@noaa.gov.

SUPPLEMENTARY INFORMATION:

I. Authority

The Secretary of Commerce (Secretary) is authorized under 16 U.S.C. 1380 (d)(1) to undertake a scientific research program to monitor the health and stability of the Bering Sea marine ecosystem and to resolve uncertainties concerning the causes of population declines of marine mammals, sea birds, and other living resources of that marine ecosystem. In the FY 2001 Consolidated Appropriations Act (Pub. L. 106-554, Miscellaneous Appropriations, Div. A, Chap. 2, Section 209(d)), Congress appropriated $20 million to the Secretary of Commerce for the development and implementation of a coordinated, comprehensive research and recovery program for the Steller sea lion. The purpose of this announcement is to invite the submission of applications for Federal assistance for research into the possible causes of the Steller sea lion decline in the Bering Sea, Gulf of Alaska, and Aleutian Island areas in accordance with Pub. L. 106-554 and to set forth how applications will be selected for funding.

II. Catalog of Federal Domestic Assistance

This program will be added to the “Catalog of Federal Domestic Assistance” (CFDA) under program number 11.439, Marine Mammal Data Program.

III. Program Description

A. Background

The western population of the Steller sea lion (Eumetopias jubatus) is listed as an endangered species under the Endangered Species Act (ESA) (16 U.S.C. 1531 et seq.). NMFS, in conjunction with the North Pacific Fishery Management Council, has jurisdiction over Federal fisheries management in the Exclusive Economic Zone off Alaska. NMFS also has stewardship responsibility to ensure the protection and recovery of the Steller sea lion. Several groundfish fisheries are conducted in the Bering Sea/ Aleutian Islands and the Gulf of Alaska regions which overlap the designated critical habitat of the Steller sea lion. NMFS conducted a formal consultation, pursuant to section 7 of the ESA, examining the likelihood that Federal commercial groundfish fisheries in prescribed Federal waters off Alaska may jeopardize the continued existence of the Steller sea lion and adversely modify or destroy designated critical habitat. A Biological Opinion released by NMFS on November 30, 2000 concluded that the fisheries for certain groundfish species jeopardize the continued existence of the western population of Steller sea lions and adversely modifies its critical habitat.

This information is provided to serve as a brief summary of the background of this research initiative, not as a comprehensive account of the circumstances surrounding this program’s origins. For additional information (including the full text of the ESA Section 7 Consultation Biological Opinion and the Recovery Plan for the Steller Sea Lion) please refer to research: http://www.fakr.noaa.gov/protectedresources/stellers.htm or contact Dr. Michael Payne, Assistant Regional Administrator, Protected Resources Division, National Marine Fisheries Service, Alaska Region, P.O. Box 21668, Juneau, Alaska, (907) 586-7236, Michael.Payne@noaa.gov.

Note: The applicant is responsible for obtaining all Federal, state, and local government permits and approvals for projects or activities to be funded under this announcement. This includes, as applicable, certification under state Coastal Zone Management Plans, section 404 or section 10 permits issued by the Corps of Engineers; experimental fishing or other permits under FMPs; scientific permits under ESA and/or the Marine Mammal Protection Act; and assistance to the Federal government in developing environmental impact statements to meet the requirements of the National Environmental Policy Act.

B. Objectives

The primary objective of the Steller Sea Lion Research Initiative is to provide support to non-Federal entities and individuals for research into the cause of the decline of the Steller sea lion and to develop conservation and protective measures to ensure recovery of the species. A secondary objective is that research products contribute immediate, short-term information relevant to adaptive fishery management strategies in the BS/AI and GOA groundfish fisheries. This does not preclude long-term research efforts that demonstrate a likelihood of (1) improving the understanding of the causes for decline, (2)advancing the ecosystem based knowledge of the species, or (3)improving technologies that would enhance research opportunities.

In an effort to develop a framework to organize the research commitments of various entities in the 2001 research season, the National Marine Fisheries Service has consulted with the National Ocean Service, the Office of Oceanic and Atmospheric Research, the Alaska SeaLife Center, the North Pacific Universities Marine Mammal Research Consortium, the North Pacific Fishery Management Council, the University of Alaska, and the State of Alaska regarding developing research areas. After careful consideration of the recommendations offered by each entity, it is the National Marine Fisheries Service position that the following set of six primary research areas best synthesize the hypothesis-driven research direction for the SSLRI program.

The hypothesis-driven model categorize research topics into the following six areas:

(1) Fisheries Competition Hypothesis;

(2) Environmental Change Hypothesis;

(3) Predation Hypothesis;

(4) Anthropogenic Effects Hypothesis;

(5) Disease Hypothesis; and

(6) Pollution Hypothesis.

These categories do not represent the Research Priority Areas of this solicitation notice, but they are discussed here because they relate to the funding priorities listed below and because they may be used by NMFS to integrate and coordinate SSLRI research activities approved through this notice. For more information on this, or a copy of the 2001 research matrix developed during the January 24-25, 2001, Steller Sea Lion Research Meeting, please contact Dr. Michael Payne, Assistant Regional Administrator, Protected Resources Division, National Marine Fisheries Service, Alaska Region, P.O. Box 21668, Juneau, Alaska, (907) 586-7236, Michael.Payne@noaa.gov

IV. Funding Availability

This solicitation announces that approximately $15 million is available in fiscal year (FY) 2001. There is no guarantee that sufficient funds will be available to make awards for all acceptable projects. Publication of this notice does not obligate NMFS to award any specific project or to obligate any available funds.

V. Matching Requirements

Applications must reflect the total budget necessary to accomplish the project, including contributions and/or donations. Cost-sharing is not required for the SSLRI program. If an applicant chooses to cost-share and if that application is selected for funding, the applicant will be bound by the percentage of the cost share reflected in the grant award.

VI. Type of Funding Instrument

The selection of a Funding Instrument (either grant or cooperative agreement) will be determined by the NOAA Grants Office in consultation with the NMFS/AKR Program Office. If the proposed research entails substantial involvement between the applicant and the NMFS, a cooperative agreement will be utilized. Under this agreement, the NMFS Alaska Program Office and Science Center will have substantial interactions with the applicant in planning and executing this project. This involvement may include the following:

1. Assisting in developing the research direction;

2. Providing access to data and resources;

3. Facilitating partnering with appropriate organizations;

4. Defining measures for evaluation of project performance; and

5. Providing direct involvement in helping to understand, define, and resolve problems in the project’s operations.

VII. Duration of Funding and Award Period

Proposals will be accepted with a performance period ranging from 1 to 3 years. Proposed research activities must demonstrate the ability to achieve an outcome and product within the requested award period. An application accepted for funding does not obligate NMFS to provide additional future funding. The award period will depend upon the duration of funding requested by the applicant in the Application for Federal Assistance, the decision of the NMFS’ selecting official on the amount of funding, the results of post-selection negotiations between the applicant and NOAA officials, and review of the application by NOAA and DOC officials.

VIII. Eligibility Criteria

A. Eligible applicants are institutions of higher education, hospitals, other non-profits, commercial organizations, state, local, or Indian tribal governments, and individuals.

B. Federal agencies, Federal instrumentalities, including Regional Fishery Management Councils and their employees, Federal employees, including NOAA employees (full-time, part-time, and intermittent personnel or their immediate families), and NOAA offices or centers are not eligible to submit an application under this solicitation or to aid in the preparation of an application during the 30-day solicitation period, except to provide information about the SSLRI program and the priorities and procedures included in this solicitation. However, NOAA employees are permitted to provide information about ongoing and planned NOAA programs and activities that may affect an application. Potential applicants are encouraged to contact Peter Jones at the NMFS Alaska Region Program Office (see ADDRESSES) for information on NOAA programs.

IX. Indirect Costs

The Project Budget form may include an amount for indirect costs if the applicant has an established indirect cost rate with the Federal government. The total dollar amount of the indirect costs proposed in an application under this program must not exceed the indirect cost rate negotiated and approved by a cognizant Federal agency prior to the proposed effective date of the award, or 100 percent of the total proposed direct cost’s dollar amount in the application, whichever is less. If applicable, a copy of the current, approved, negotiated indirect cost agreement with the Federal government must be included in the application.

X. Application Forms

Before submitting an application under the SSLRI Program, it is recommended that applicants contact the NMFS Alaska Region Office for a copy of this solicitation's Application Package (see ADDRESSES). The Application Package consists of the standard National Oceanic and Atmospheric Administration’s forms, instructions, and guidelines (OMB Control Numbers: 0348-0043, 0348-0044, 0348-0046).

XI. Project Funding Priorities

Funding for a Steller Sea Lion Research Initiative was made available through an FY 2001 Federal appropriations which states:

$20,000,000 is hereby appropriated to the Secretary of Commerce to remain available until expended to develop and implement a coordinated, comprehensive research and recovery program for the Steller sea lion, which shall be designated to study-(1) available prey species; (2) predator/prey relationships; (3) predation by other marine mammals; (4) interactions between fisheries and Steller sea lions, including localized depletion theory; (5) regime shift, climate change, and other impacts associated with changing environmental conditions in the North Pacific and Bering Sea; (6) disease; (7) juvenile and pup survival rates; (8) population counts; (9) nutritional stress; (10) foreign commercial harvest of sea lions outside the exclusive economic zone; (11) the residual impacts of former government-authorized Steller sea lion eradication bounty programs; and (12) the residual impacts of intentional lethal takes of Steller sea lions. Within available funds the Secretary shall implement on a pilot basis innovative non-lethal measures to protect Steller sea lions from marine mammal predators including killer whales.

For the purpose of this solicitation, funding priorities are:

1. Available prey species;

2. Predator/prey relationships;

3. Predation by other marine mammals;

4. Interactions between fisheries and Steller sea lions, including localized depletion theory;

5. Regime shift, climate change, and other impacts associated with changing environmental conditions in the North Pacific and Bering Sea;

6. Disease;

7. Juvenile and pup survival rates;

8. Population counts;

9. Nutritional stress;

10. Foreign commercial harvest of sea lions outside the exclusive economic zone;

11. The residual impacts of former government-authorized Steller sea lion eradication bounty programs;

12. The residual impacts of intentional lethal takes of Steller sea lions; and

13. Feasibility study examining the development of innovative non-lethal measures to protect Steller sea lions from marine mammal predations including killer whales.

Examples of viable research topics that are subsets of the funding priorities include:

1. Field studies to assess the Steller sea lion “prey field” in known local areas;

2. Research to improve the measurement of the numbers of Steller sea lions;

3. The development of a probabilistic assessment of the simultaneous pursuit of prey by juvenile Steller sea lions and the fisheries;

4. The development of a population-dynamics model for the western stock of Steller sea lions;

5. Studies to estimate killer whale and shark predation of Steller sea lions, including population abundance studies of transient killer whales;

6. Studies to investigate the effects of environmental degradation, toxic substances, and/or other factors that may impair Steller sea lion endocrine, reproductive, and/or immune system functions;

7. Studies to investigate the effects of diet on Steller sea lion fitness and survival;

8. Studies examining the nutritional limitation of juvenile Steller sea lions, including comparative studies between juveniles in the eastern and western population;

9. Studies to determine current Steller sea lion food habitats, including seasonal changes in prey composition and prey size;

10. Studies to determine the ecological attributes that define spatial extent of sea lion critical habitat;

11. Research into current demographic rates, including age-specific survival and reproduction, juvenile recruitment, and body size;

12. Investigations into population subdivision and movement patterns based on molecular genetic techniques;

13. Research examining pregnant females supporting pups during winter season;

14. Development of new technologies to remotely monitor (across seasons) body condition, mortality, and patterns of spatially explicit foraging effort;

15. Studies to determine the utility of fatty acid signature analyses in quantifying seasonal food habits and the timing of weaning;

16. Analysis of historical satellite tag data to examine foraging depth and distance from rookeries;

17. Studies examining effect on the abundance, distribution, and composition of Steller sea lion prey at spatial and temporal scales pertinent to foraging sea lions;

18. Studies to determine the efficacy of fishery exclusion zones to improve Steller sea lion survival and reproductive rates;

19. Studies directed at determining is commercial fishing activities result in localized depletion of Steller sea lion prey on a scale important to foraging sea lions;

20. Studies that examine potential interactions between Steller sea lions and fisheries managed by the State of Alaska; and

21. Studies that investigate alternative hypotheses regarding historical and recent Steller sea lion population trends.

XII. Evaluation Criteria

A. Evaluation of Proposed Projects

1. Initial Screening of Applications: Upon receipt the NMFS Program Office will screen applications for conformance with requirements set forth in this notice. Applications which do not conform to the requirements may not be considered for further evaluation.

2. Consultation with Interested Parties: As appropriate, NMFS will consult with NMFS Offices, the NOAA Grants Management Division, Department of Commerce, and other Federal and state agencies, the North Pacific Fishery Management Council, and other interested parties who may be affected by or have knowledge of a specific proposal or its subject matter.

3. Technical Evaluation: NMFS will solicit individual technical evaluations of each project application from three or more NMFS scientists. The Technical Evaluation Team will be convened at the NMFS Alaska Region Office no later than one week from the closing date of application period. These reviewers will independently assign scores to applications based on the following evaluation criteria, with weights shown in parentheses:

a. Soundness of Project Design/Conceptual Approach. Applications will be evaluated on the applicant's comprehension of the problem(s); the overall concept proposed for resolution; whether the applicant provided sufficient information to evaluate the project technically; and, if so, the strengths and/or weaknesses of the technical design relative to securing productive results. (50 percent)

b. Project Management and Experience and Qualifications of Personnel. The organization and management of the project, and the project's principal investigator and other personnel in terms of related experience and qualifications will be evaluated. Those projects that do not identify the principal investigator with his or her qualifications will receive a lower point score. (25 percent)

c. Project Evaluation. The effectiveness of the applicant's proposed methods to evaluate the project in terms of meeting its original objectives will be evaluated. (10 percent)

d. Project Costs. The justification and allocation of the budget in terms of the work to be performed will be evaluated. Unreasonably high or low project costs will be taken into account. (15 percent)

4. In addition to the above criteria, in reviewing applications that include consultants and contracts, NMFS will make a determination regarding the following:

a. Is the involvement of the primary applicant necessary to the conduct of the project and the accomplishment of its objectives?

b. Is the proposed allocation of the primary applicant's time reasonable and commensurate with the applicant's involvement in the project?

c. Are the proposed costs for the primary applicant's involvement in the project reasonable and commensurate with the benefits to be derived from the applicant's participation?

B. Constituency Panel Review

1. The Program Office will compile technical reviews and scores and present these to a second tier review referred to as the Constituency Panel.

2. In the event that the total amount of requested funding for all eligible applications is less than available funds, the Regional Administrator, Alaska Region in consultation with the Assistant Administrator for Fisheries, may elect to forgo the second tier review and proceed to negotiations with the applicants.

3. The Program Office will convene the Constituency Panel no later than one week following the conclusion of the Technical Evaluations. The Constituency Panel will comprise no fewer than three representatives to be recommended by the North Pacific Fishery Management Council and selected by the Regional Administrator, Alaska Region. Consistent with laws and regulations governing conflict of interest, composition of the constituency panel will consist of at least one representative from the Alaska fishing industry and one representative from an Alaska coastal community. At the discretion of the NMFS Program Office, the Constituency Panel may be separated into single or multiple priority areas for the purpose of expediting review and ensuring necessary subject expertise. After panel discussion of the overall proposal merits, the Constituency Panel members will individually rank the projects. The Constituency Panel is not tasked with reaching consensus on individual project merit. Considered in the rankings, along with the technical evaluation, will be (1) the significance of the proposed research as it will contribute to an understanding of the cause of the decline of Steller sea lion in their western range and (2) the ability of the proposed research to make an immediate or near-term contribution to the understanding of the relationship between the Steller sea lion and fisheries of the North Pacific. Each panelist will rank each project (on a scale of 1 being the lowest to 5 being the highest) in terms of importance or need for funding and provide recommendations on (1) the level of funding and (2) the merits of funding for each project.

XIII. Selection Procedures

After projects have been evaluated and ranked, the NMFS Program Office will develop recommendations for project funding. After projects have been evaluated and ranked, the recommendations will be submitted to the Regional Administrator, Alaska Region, who will, in consultation with the Assistant Administrator for Fisheries, determine the projects to be funded, ensuring that there is no duplication with other projects funded by NOAA or other Federal organizations and that the projects selected for funding are those that best meet the objectives of the Steller Sea Lion Research Initiative.

The exact amount of funds awarded to a project will be determined in pre-award negotiations among the applicant, NMFS Program Office, and NOAA Grants Office. Projects should not be initiated in expectation of Federal funding until a notice of award document is received. Although considerable effort will be made to expedite the review, selection, negotiation, and approval process in order to meet the 2001 research season, applicants are to be advised that, following the project selection, there is an additional review process by NOAA Grants Management Division that can extend beyond 60 days. It is recommended that applicants not request a project start date before June 1, 2001.

XIV. Other Requirements

A. Federal policies and procedures. Recipients and subrecipients are subject to all Federal laws and Federal and DOC policies, regulations, and procedures applicable to Federal financial assistance awards. Women and minority individuals and groups are encouraged to submit applications under this program.

Department of Commerce National Oceanic and Atmospheric Administration (DOC/NOAA) is strongly committed to broadening the participation of Historically Black Colleges and Universities (HBCU), Hispanic Serving Institutions (HSI), and Tribal Colleges and Universities (TCU) in its educational and research programs. The DOC/NOAA vision, mission, and goals are to achieve full participation by Minority Serving Institutions (MSI) in order to advance the development of human potential, to strengthen the nation’s capacity to provide high-quality education, and to increase opportunities for MSIs to participate in and benefit from Federal Financial Assistance programs. DOC/NOAA encourages all applicants to include meaningful participation of MSIs.

B. Past performance. Any first-time applicant for Federal grant funds is subject to a pre-award accounting survey prior to execution of the award. Unsatisfactory performance under prior Federal awards may result in an application not being considered for funding.

C. Pre-award activities. If applicants incur any costs prior to an award being made, they do so solely at their own risk of not being reimbursed by the Government. Notwithstanding any verbal or written assurance that they may have received, there is no obligation on the part of DOC to cover pre-award costs.

D. No obligation of future funding. If an application is selected for funding, DOC has no obligation to provide any additional future funding in connection with the award. Renewal of an award to increase funding or extend the period of performance is at the total discretion of DOC.

E. Delinquent Federal debt. No Federal funds will be awarded to an applicant or to its subrecipients who have any outstanding debt or fine until either:

1. The delinquent account is paid in full;

2. A negotiated repayment schedule is established and at least one payment is received; or

3. Other arrangements satisfactory to DOC are made.

F. Name check review. All non-profit and for-profit applicants are subject to a name-check review process. Name checks are intended to reveal if any key individuals associated with the applicant have been convicted of, or are presently facing, such criminal charges as fraud, theft, perjury, or other matters that significantly reflect on the applicant's management honesty or financial integrity. Potential non-profit and for-profit recipients may also be subject to reviews of Dun and Bradstreet data or of other similar credit checks.

G. Primary applicant certifications. All primary applicants must submit a completed Form CD-511, “Certifications Regarding Debarment, Suspension and Other Responsibility Matters; Drug-Free Workplace Requirements and Lobbying,” and the following explanations are hereby provided:

1. Nonprocurement debarment and suspension. Prospective participants (as defined at 15 CFR 26.105) are subject to 15 CFR part 26, “Nonprocurement Debarment and Suspension” and to the related section of the certification form prescribed here;

2. Drug-free workplace. Grantees (as defined at 15 CFR 26.605) are subject to 15 CFR part 26, subpart F, “Government wide Requirements for Drug-Free Workplace (Grants)” and to the related section of the certification form prescribed here;

3. Anti-lobbying. Persons (as defined at 15 CFR 28.105) are subject to the lobbying provisions of 31 U.S.C. 1352, “Limitation on use of appropriated funds to influence certain Federal contracting and financial transactions.” The lobbying section of the CD-511 applies to applications/bids for grants, cooperative agreements, contracts for more than $100,000, and to loans and loan guarantees for more than $150,000.

4. Anti-lobbying disclosures. Any applicant who has paid or will pay for lobbying using any funds must submit a Form SL-LLL, “Disclosure of Lobbying Activities,” as required under 15 CFR part 28, appendix B.

H. Lower tier certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. A form SF-LLL submitted by any tier recipient or subrecipient should be submitted to DOC in accordance with the instructions contained in the award document.

I. False statements. A false statement on the application is grounds for denial or termination of funds and grounds for possible punishment by a fine or imprisonment as provided in 18 U.S.C. 1001.

J. Intergovernmental review. Applications under this program are subject to the provisions of Executive Order 12372, “Intergovernmental Review of Federal Programs.”

K. American-made equipment and products. Applicants are hereby notified that they are encouraged, to the extent feasible, to purchase American-made equipment and products with funding provided under this program.

Classification

Prior notice and an opportunity for public comments are not required by the Administrative Procedure Act or any other law for this notice concerning grants, benefits, and contracts.

Therefore, a regulatory flexibility analysis is not required for purposes of the Regulatory Flexibility Act.

This action has been determined to be not significant for purposes of Executive Order 12866.

Applications under this program are subject to Executive Order 12372, “Intergovernmental Review of Federal Programs.”

Federal participation under the SSLRI Program may include the assignment of DOC scientific personnel and equipment.

This notice contains information collection requirements which are subject to the Paperwork Reduction Act. The use of Standard Form 424, 424A, and SF-LLL have been approved by OMB under the respective control numbers 0348-0043, 0348-0044, and 0348-0046. Notwithstanding any other provision of law, no person is required to respond to, nor shall any person be subject to a penalty for failure to comply with, a collection of information subject to the Paperwork Reduction Act unless that collection of information displays a currently valid OMB control number.

Authority: Pub. L. 106-554, 16 U.S.C. 1380.

Dated: March 14, 2001.
John Oliver,
Acting Assistant Administrator for Fisheries, National Marine Fisheries Service.

[FR Doc. 01-7022 Filed 3-20-01; 8:45 am]

BILLING CODE 3510-22-S